DEPARTMENT OF THE INTERIOR

National Park Service

National Park System Advisory Board; Meeting

AGENCY: National Park Service, Interior.

ACTION: Notice of meeting.

Notice is hereby given in accordance with the Federal Advisory Committee Act, 5 U.S.C. Appendix, that the National Park System Advisory Board will conduct a public meeting by teleconference on August 12, 2003, from 4 p.m. to 5 p.m. eastern standard time, inclusive. Members of the public may attend the meeting in person in Washington, DC, at the Jurys Washington Hotel, Burlington Ballroom A, 1500 New Hampshire Avenue, NW., Washington, DC 20036. During this teleconference, the National Park System Advisory Board will receive and discuss the report of its National Parks Science Committee concerning an evaluation of the National Park Service Natural Resource Challenge Program. The Board will make recommendations to the Director of the National Park Service concerning the future direction of science in the National Park Service. Anyone who wishes a copy of the committee report may contact Shirley Sears Smith, Office of Policy and Regulations, National Park Service, at 202-208-7456.

Opportunities for oral comment will be limited to no more than 3 minutes per speaker and no more than 15 minutes total. The Board's chairman will determine how time for oral comments will be allocated. Anyone who wishes further information concerning the meeting, or who wishes to submit a written statement, may contact Mr. Loran Fraser (202-208-7456), Office of Policy and Regulations, National Park Service, 1849 C Street, NW., Washington, DC 20240.

Draft minutes of the meeting will be available for public inspection about 12 weeks after the meeting, in room 7250, Main Interior Building, 1849 C Street, NW., Washington, DC.

Dated: July 15, 2003.
Loran Fraser,
Chief, Office of Policy and Regulations, National Park Service.

[FR Doc. 03-18707 Filed 7-22-03; 8:45 am]

BILLING CODE 4312-52-P